DEPARTMENT OF COMMERCE

National Oceanic and Atmospheric Administration

[I.D. 012407B]

Western Pacific Regional Fishery Management Council; Public Meetings

AGENCY: National Marine Fisheries Service (NMFS), National Oceanic and Atmospheric Administration (NOAA), Commerce.

ACTION: Notice of public meetings.

SUMMARY: The 94th meeting of the Western Pacific Regional Fishery Management Council's (Council) Scientific and Statistical Committee (SSC) will convene Tuesday, February 20, 2007, through Thursday February 22, 2007. The meeting will be held between 8:30 a.m. and 5 p.m. each day. See SUPPLEMENTARY INFORMATION for specific times, dates, and agenda items.

ADDRESSES: The SSC meeting will be held at the Council Office Conference Room, 1164 Bishop St., Suite 1400, Honolulu, HI; telephone: (808) 522-8220.

FOR FURTHER INFORMATION CONTACT: Kitty M. Simonds, Executive Director; telephone: (808) 522-8220.

SUPPLEMENTARY INFORMATION:

9 a.m., Tuesday, February 20, 2007

1. Introductions

2. Approval of draft agenda and assignment of rapporteurs

3. Approval of the minutes of the 92nd meeting

4. Report of the Pacific Science Center Director

5. Status of Stocks

A. Report to Congress

B. SSC participation in stock assessment review process

6. Magnuson-Stevens Act (MSA) Reauthorization

A. Total Allowable Catches (TACs)

B. Limited Access Privilege Programs (LAPPs)

C. Recreational fisher registration

D. Stipend

7. Ecosystem and Habitat

A. Fishery Ecosystem Plan (FEP) Programmatic Environmental Impact Statement (PEIS) update

B. Essential Fish Habitat (EFH) revisions

C. Ecosystem Policy Workshop

D. Public Comment

E. Discussion and Recommendations

8. Protected Species

A. Monk Seal Fatty Acid Study report

B. Marine Mammal Advisory Committee (MMAC)

C. Public Comment

D. Discussion and Recommendations

9. Insular Fisheries

Precious Corals and Crustaceans

i. Ecological impacts of Carijoa riisei on black coral habitat

ii. Northwestern Hawaiian Island (NWHI) Lobster Research

iii. Public Comment

iv. Discussion and Recommendations

8:30 a.m,. Wednesday, February 21, 2007

A. Bottomfish and Seamount Groundfish

B. Revising NWHI bottomfish zones

C. Main Hawaiian Islands (MHI) bottomfish

D. Insular Stock Assessment

E. Public Comment

F. Discussion and Recommendations

10. Pelagics Fisheries

A. Pelagic/TAC framework

B. Council shark project

C. Guam longline area closure

D. American Samoa and Hawaii Longline quarterly reports

E. International Fisheries

a. Western and Central Pacific Fishery Commission (WCPFC3)

b. Tuna Regional Fishery Management Organization (RFMO) Meeting

c. Inter-American Tropical Tuna Commission (IATTC)

d. Bycatch Consortium

F. Public Comment

G. Discussion and Recommendations

8:30 a.m., Thursday, February 22, 2007

11. Other Business

95th SSC meeting

12. Summary of SSC Recommendations to the Council - Paul Callaghan

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: January 25, 2007.
Tracey L. Thompson,
Acting Director, Office of Sustainable Fisheries, National Marine Fisheries Service.

[FR Doc. E7-1434 Filed 1-29-07; 8:45 am]

BILLING CODE 3510-22-S